FEDERAL COMMUNICATIONS COMMISSION

[Report No. 2671]

Petitions for Reconsideration of Action in Rulemaking Proceedings

September 2, 2004.

Petitions for Reconsideration have been filed in the Commission's Rulemaking proceedings listed in this Public Notice and published pursuant to 47 CFR Section 1.429(e). The full text of this document is available for viewing and copying in Room CY-B402, 445 12th Street, SW., Washington, DC or may be purchased from the Commission's copy contractor, Best Copy and Printing, Inc. (BCPI) (1-800-378-3160). Oppositions to these petitions must be filed by September 27, 2004. See Section 1.4(b)(1) of the Commission's rules (47 CFR 1.4(b)(1)). Replies to an opposition must be filed within 10 days after the time for filing oppositions have expired.

Subject: Request Amendment of the FM Table of Allotments (Keno, OR) (MM Docket No. 99-275, RM-9704).

Number of Petitions Filed: 1.

Subject: Request Amendment of the FM Table of Allotments (Arlington, The Dalles, Moro, Fossil, Astoria, Gladstone, Tillamook, Springfield-Eugene, Coos Bay, Manzanita and Hermiston, Oregon and Covington, Trout Lake, Shoreline, Bellingham, Forks, Hoquiam, Aberdeen, Walla Walla, Kent, College Place, Long Beach, Ilwaco TroutLake and Mercer Island, Washington) (MB Docket No. 02-136, RM-10458, RM-10663, RM-10667, RM-10668).

Number of Petitions Filed: 1.

Subject: In the Matter of the Assessment and Collection of Regulatory Fees for Fiscal Year 2004 (MD Docket No. 04-73).

Number of Petitions Filed: 1.

Marlene H. Dortch,
Secretary.

[FR Doc. 04-20535 Filed 9-9-04; 8:45 am]

BILLING CODE 6712-01-M